DEPARTMENT OF THE INTERIOR

Bureau of Land Management

[MT-069-1310-DB-034E]

Notice of Intent To Conduct Scoping and Prepare an Environmental Impact Statement (EIS) for the Blackleaf Project, Teton County, MT

AGENCIES: Bureau of Land Management, Interior.

ACTION: Notice of intent.

SUMMARY: Startech Energy, Inc. (Operator of the Blackleaf Unit, a Federal Oil and Gas Unit), hereinafter referred to as “Startech” has submitted to the Bureau of Land Management (BLM) Applications for Permit to Drill for natural gas on lease, MTM 24615. This lease is located on BLM managed land, in Teton County along the Rocky Mountain Front. The proposed drilling location is within the Montana Thrust Belt, approximately 75 miles northwest of Great Falls, Montana.

Under provisions of section 102(2)(C) of the National Environmental Policy Act (NEPA) and pertinent Federal regulations, the BLM announces its intention to prepare an EIS, and to solicit public comments regarding issues, concerns and resource information pertaining to this proposed project.

Comments, including names and street addresses of respondents, will be available for public review at the BLM Lewistown Field Office during regular business hours 7:45 a.m. to 4:30 p.m., Monday through Friday, except holidays, and may be published as part of the EIS. Individual respondents may request confidentiality. If you wish to withhold your name or street address from public review or from disclosure under the Freedom of Information Act, you must state this prominently at the beginning of your written comments. Such requests will be honored to the extent allowed by law. Anonymous comments will not be accepted. All submissions from organizations and businesses, and from individuals identifying themselves as representatives or officials of organizations or businesses, will be available for public inspection in their entirety.

DATES: This Notice initiates the public scoping process. The BLM can best determine the scope of this EIS if issues/concerns are submitted within 45 days of the publication of this Notice. Scoping meeting dates and locations will be announced in local newspapers, on local radio stations, by mail and on the BLM Lewistown Field Office Web page (http://www.mt.blm.gov/ldo/index.html). Public scoping meeting announcements will be made at least 15 days prior to the meetings. All comments received at the public meetings or submitted in writing by mail or electronically via the internet will aid the BLM in identifying issues, developing a range of alternatives, and analyzing environmental impacts. The BLM will provide additional opportunities for public participation throughout the preparation of the EIS.

ADDRESSES: Comments should be submitted in writing to: Field Manager, Bureau of Land Management, Lewistown Field Office, P.O. Box 1160, Lewistown, Montana 59457, Attn: Blackleaf Project EIS Team Lead; via electronic submittal, the e-mail address is mt_blackleaf_eis@blm.gov.

FOR FURTHER INFORMATION CONTACT: Lynn Ricci, Blackleaf Project EIS Team Lead, BLM, Lewistown Field Office, P.O. Box 1160, Lewistown, Montana 59457, 406/538-1922.

SUPPLEMENTARY INFORMATION: Startech proposes to drill a total of three wells from one location within the existing Blackleaf Exploration Unit at T. 25 N., R. 8 W., section 6. The proposed exploratory/development well would offset a Known Geologic Structure that was tested for natural gas from an exploratory well in Muddy Creek drilled in 1959. The surface location of Startech's proposed drill site is located within BLM's Blind Horse Outstanding Natural Area. In addition to public land managed by the BLM, the proposed action involves privately owned surface estate and land managed by the Montana Department of Fish, Wildlife and Parks.

The first well would be drilled vertically to approximately 6,500 feet, and the next two wells would be drilled directionally from the same drill site to fully develop the natural gas reservoir. Approximately four acres would be disturbed in order to construct a well pad (400 feet by 400 feet) to accommodate the drilling rig and subsequent production equipment. Existing roads and pipelines would be utilized to minimize impacts to the area, though portions of the road system would need to be upgraded. Approximately 200 feet of new road would be constructed from the existing road to the proposed well site. Approximately eight miles of new pipeline would be constructed from the well site to the existing production facility located in T. 26 N., R. 8 W., section 8.

In order to minimize activity at the well site following the drilling and completion of the wells, Startech proposes to produce full well stream fluids to the existing production facility that would be upgraded, located in section 8. Produced fluids would be compressed at this production facility, and then transferred by pipeline to a distant gas processing facility. At the gas plant, hydrocarbon condensate (oil) and water would be separated and recovered. The gas would be sweetened to remove approximately 0.5% hydrogen sulfide (H2S) contaminant, and then processed to place it into marketable condition for sale into an existing natural gas pipeline approximately 25 miles north east of the project area. Two shut-in wells, from previous drilling and production activity in the Blackleaf Unit in the 1980s, would be returned to production upon successful completion of the proposed wells.

The EIS will analyze the applicant's proposal and the reasonable foreseeable development scenario (RFD) expected during the life of this project, which includes an additional eight potential locations. The gas processing plant is also a reasonable foreseeable action and therefore, expected impacts would be evaluated but not to the same degree as for the proposed action.

Issues that will be analyzed in the EIS include: cultural heritage resources; visual resource management; social and economic conditions; threatened and endangered species, and sensitive species of wildlife and plants and their habitats; air quality; water quality; recreation; noxious weeds; and reasonable foreseeable future actions.

Dated: April 6, 2004.
David L. Mari,
Lewistown Field Manager.

[FR Doc. 04-8218 Filed 4-14-04; 8:45 am]

BILLING CODE 4310-$$-P